DEPARTMENT OF TRANSPORTATION

Surface Transportation Board

[STB Finance Docket No. 34324]

City of Childersburg Local Redevelopment Authority—Acquisition Exemption—Rail Line of the United States Government

The City of Childersburg Local Redevelopment Authority (City), a noncarrier, has filed a verified notice of exemption under 49 CFR 1150.31 to acquire approximately 12.68 miles of rail line from the United States Government, together with named facilities, located at the Alabama Army Ammunition Plant (AAAP), in Talladega County, AL. The United States Army (U.S. Army) is currently in the process of transferring AAAP from federal ownership to the City, which is the recipient of the property under the Base Realignment and Closure Act (BRAC). The line is currently being utilized under lease by the Central of Georgia Railway Company (CGRC), Norfolk Southern Railway Company (NS), and CSX Transportation, Inc. (CSXT).¹ The City will not be performing any operations over the line, but plans to continue the lease arrangements with the current lessees.

¹ The track is located approximately at milepost P401.0 by CGRC designation, approximately at milepost 102.1N by NS designation, and approximately at a wye track that runs south 8,716 feet from marker ANJ926 by CSXT designation. The rail line serves as a connector between two points of lessees' railways.

The parties intend to consummate the transaction no later than April 24, 2003.² The effective date of the exemption was March 31, 2003 (7 days after the notice was filed).

² By amendment filed April 11, 2003, the City states that it has been informed by the U.S. Army Corps of Engineers that the U.S. Army expects to transfer ownership of the rail line no later than April 24, 2003.

The City certifies that its projected revenues as a result of the transaction will not exceed those that would qualify it as a Class III rail carrier and will not result in the creation of a Class II or Class I rail carrier.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34324, must be filed with the Surface Transportation Board, 1925 K Street, NW., Washington, DC 20423-0001. In addition, a copy of each pleading must be served on B. J. Meeks, Mayor, 118 6th Avenue, SW., Childersburg, AL 35044.

Board decisions and notices are available on our website at http://www.stb.dot.gov.

Decided: April 11, 2003.
By the Board, David M. Konschnik, Director, Office of Proceedings.
Vernon A. Williams,
Secretary.

[FR Doc. 03-9464 Filed 4-18-03; 8:45 am]

BILLING CODE 4915-00-P